NUCLEAR REGULATORY COMMISSION

[Docket No. NRC-2012-0178]

Agency Information Collection Activities: Proposed Collection; Comment Request

AGENCY: Nuclear Regulatory Commission.

ACTION: Notice of pending NRC action to submit an information collection request to the Office of Management and Budget (OMB) and solicitation of public comment.

SUMMARY: The U.S. Nuclear Regulatory Commission (NRC) invites public comment about our intention to request the OMB's approval for the renewal of an existing information collection that is summarized below. We are required to publish this notice in the Federal Register under the provisions of the Paperwork Reduction Act of 1995 (44 U.S.C. Chapter 35).

Information pertaining to the required to be submitted:

1. The title of the information collection: NRC Form 790, Classification Record.

2. Current OMB approval number: 3150-0052.

3. How often the collection is required: On occasion.

4. Who is required or asked to report: NRC licensees, contractors, and certificate holders who classify and declassify NRC information.

5. The number of annual respondents: 1400.

6. The number of hours needed annually to complete the requirements or request: 70.

7. Abstract: Completion of the NRC Form 790 is a mandatory requirement for NRC licensees, contractors, and only certificate holder who classifies and declassifies NRC information in accordance with Executive Order 13526, “Classified National Security Information,” the Atomic Energy Act, and implementing directives.

Submit, by November 20, 2012, comments that address the following questions.

1. Is the proposed collection of information necessary for the NRC to properly perform its functions? Does the information have practical utility?

2. Is the burden estimate accurate?

3. Is there a way to enhance the quality, utility, and clarity of the Information to be collected?

4. How can the burden of the information collection be minimized, including the use of automated collection techniques or other forms of information technology?

A copy of the draft supporting statement may be viewed free of charge at the NRC Public Document Room, One White Flint North, 11555 Rockville Pike, Room O-1 F21, Rockville, MD, 20852. OMB clearance requests are available at the NRC's Web site: http://www.nrc.gov/public-involve/doc-comment/omb/. The document will be available on the NRC's home page site for 60 days after the signature date of this notice. Comments submitted in writing or in electronic form will be made available for public inspection. Because your comments will not be edited to remove any identifying or contact information, the NRC cautions you against including any information in your submission that you do not want to be publicly disclosed. Comments submitted should reference Docket No. NRC-2012-0178.

You may submit your comments by any of the following methods: (1) Electronic comments. Go to http://www.regulations.gov and search for Docket No. NRC-2012-0178; (2) email comments to the NRC's Clearance Officer, Tremaine Donnell (T-5-F53), U.S. Nuclear Regulatory Commission, Washington, DC 20555-0001. Questions about the information collection requirements may be directed to the NRC's Clearance Officer, Tremaine Donnell (T-5 F53), Nuclear Regulatory Commission, Washington, DC 20555-0001; telephone 301-415-6258; or (3) email to: INFOCOLLECTS.Resource@NRC.GOV.

Dated at Rockville, Maryland, this 17th day of September, 2012.
For the Nuclear Regulatory Commission.
Tremaine Donnell,
NRC Clearance Officer, Office of Information Services.

[FR Doc. 2012-23307 Filed 9-20-12; 8:45 am]

BILLING CODE 7590-01-P